DEPARTMENT OF EDUCATION

Notice of Proposed Information Collection Requests

AGENCY: Department of Education.

ACTION: Correction notice.

SUMMARY: On July 8, 2005, the Department of Education published a notice in the Federal Register (Page 39496, Column 1) for the information collection, “A Study of the Addition of Literacy Services for Vocational Rehabilitation Consumers”. This notice was inadvertently published. Please refer to the Federal Register notice of July 7, 2005, (Page 39249, Column 2). The Leader, Information Management Case Services Team, Regulatory Information Management Services, Office of the Chief Information Officer, hereby issues a correction notice as required by the Paperwork Reduction Act of 1995.

Dated: July 8, 2005
Angela C. Arrington,
Information Management Case Services Team, Regulatory Information Management Services, Office of the Chief Information Officer.

[FR Doc. 05-13731 Filed 7-12-05; 8:45 am]

BILLING CODE 4000-01-M